DEPARTMENT OF COMMERCE

National Oceanic and Atmospheric Administration

[I.D. 070902A]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene a public meeting of the Mackerel Advisory Panel (AP).

DATES: The AP meeting is scheduled to begin at 8:30 a.m. on July 29, 2002 and will conclude by 3 p.m.

ADDRESSES: The meeting will be held at the New Orleans Airport Hilton Hotel, 901 Airline Highway, Kenner, LA; telephone: 504-469-5000.

Council address: Gulf of Mexico Fishery Management Council, 3018 U.S. Highway 301 North, Suite 1000, Tampa, FL 33619.

FOR FURTHER INFORMATION CONTACT: Dr. Richard Leard, Senior Fishery Biologist, Gulf of Mexico Fishery Management Council; telephone: 813-228-2815.

SUPPLEMENTARY INFORMATION: The Mackerel AP will convene to review a report of the Mackerel Stock Assessment Panel (MSAP) that includes status of stock information on Gulf Group king mackerel and little tunny, as well as the range of acceptable biological catch (ABC). The Mackerel AP will also review the report of the Socioeconomic Panel (SEP) on these stocks and may make recommendations to the Council for additional management measures based on these reviews. The Mackerel AP will also receive reports on the status of the Dolphin/Wahoo Fishery Management Plan (FMP) that is being developed jointly with the South Atlantic and Caribbean Fishery Management Councils and a regulatory amendment to establish definitions of maximum sustainable yield (MSY), optimum yield (OY), overfishing, and the overfished condition for mackerel and cobia stocks in the Gulf. the various shrimp stocks in the Gulf.

Although other non-emergency issues not on the agendas may come before the Mackerel AP for discussion, in accordance with the Magnuson-Stevens Fishery Conservation and Management Act, those issues may not be the subject of formal action during the meeting. Actions of the Mackerel AP will be restricted to those issues specifically identified in the agendas and any issues arising after publication of this notice that require emergency action under Section 305(c) of the Magnuson-Stevens Act, provided the public has been notified of the Council's intent to take action to address the emergency.

Copies of the agenda can be obtained by calling 813-228-2815.

Special Accommodations

This meeting is physically accessible to people with disabilities. Requests for sign language interpretation or other auxiliary aids should be directed to Anne Alford at the Council (see ADDRESSES) by July 22, 2002.

Dated: July 9, 2002.
Richard W. Surdi,
Acting Director, Office of Sustainable Fisheries, National Marine Fisheries Service.

[FR Doc. 02-17557 Filed 7-11-02; 8:45 am]

BILLING CODE 3510-22-S